DEPARTMENT OF TRANSPORTATION

Bureau of Transportation Statistics

[Docket No. BTS-99-6368]

OMB Review of Agency Information Collection Activity; Motor Carrier Report Form MP-1

AGENCY: Bureau of Transportation Statistics, DOT.

ACTION: Notice.

SUMMARY: In compliance with the Paperwork Reduction Act of 1995, this notice announces that the Bureau of Transportation Statistics (BTS) has submitted the following data collection to the Office of Management and Budget (OMB) for review and approval: Motor Carrier Quarterly and Annual Report Form MP-1. This report form provides financial and operation data about large motor carriers of passengers. BTS published a Federal Register notice asking for public comment on this data collection October 19, 1999 (64 FR 56385). BTS received one comment in response to that notice.

DATES: You must submit comments by February 22, 2000.

ADDRESSES: Please send comments to both (1) the Office of Information and Regulatory Affairs (OIRA), OMB, 725 17th Street, NW., Washington, DC 20503, attention: DOT Desk Officer; and (2) the Docket Clerk, Docket No. BTS-99-6368, Department of Transportation, 400 Seventh Street, SW., Room PL-401, Washington, DC 20590. Comments must include the OMB control number, 2139-0003.

You only need to submit one copy. If you would like the Department to acknowledge receipt of the comments, you must include a self-addressed stamped postcard with the following statement: Comments on Docket BTS-99-6368. The Docket Clerk will date stamp the postcard and mail it back to you.

If you wish to file comments using the Internet, you may use the U.S. DOT Dockets Management System website at http://dms.dot.gov. Please follow the instructions online for more information. This website can also be used to read comments received.

FOR FURTHER INFORMATION CONTACT: David Mednick, K-2, Bureau of Transportation Statistics, 400 Seventh Street, SW., Washington, DC 20590; (202) 366-8871; fax: (202) 366-3640; e-mail: david.mednick@bts.gov. Please refer to OMB Control No. 2139-0003 in any correspondence.

SUPPLEMENTAL INFORMATION: Title: Motor Carrier Quarterly and Annual Report, Motor Carriers of Passengers.

OMB Control No.: 2139-0003.

Form No.: BTS Form MP-1.

Type of Review: Extension of a currently approved collection.

Respondents: Class I Motor Carriers of Passengers.

Number of Respondents: Approximately 26.

Estimated Time Per Response: 90 minutes.

Total Annual Burden: 195 hours.

Needs and Uses: Under section 103 of the ICC Termination Act of 1995, Pub. L. 104-88, 109 Stat. 803 (1995) (codified at 49 U.S.C. 14123), the Department of Transportation (DOT) is required to collect annual financial and safety reports from Class I and Class II motor carriers. DOT may also require motor carriers to file quarterly and special reports. In determining the matters to be covered by the reports, DOT must consider (1) safety needs; (2) the need to preserve confidential business information and trade secrets and prevent competitive harm; (3) private sector, academic, and public use of information in the reports; and (4) the public interest. DOT must also streamline and simplify the reporting requirements to the maximum extent practicable. DOT has delegated authority for this program to the Director of BTS.

Under this statutory mandate, BTS has been collecting data on motor carriers of passengers using Form MP-1. This provides quarterly and annual data on number of passengers, operating revenue and expenses, net income, and assets and liabilities. BTS uses it to provide periodic information on the health of the motor carrier of passengers industry, its impact on the economy, and the economy's impact on the industry. The report form accomplishes this with minimal data items to be completed quarterly. Please note that under the statute BTS also collects data on motor carriers of property, using report Forms M and QFR, but these forms are not part of this renewal notice and request for comments.

Request for Comments

BTS requests comments regarding any aspect of this information collection, including, but not limited to: (1) the necessity and utility of the information collection for the proper performance of the functions of the Bureau of Transportation Statistics; (2) the accuracy of the estimated burden; (3) ways to enhance the quality, utility, and clarity of the collected information; and (4) ways to minimize the collection burden without reducing the quality of the collected information, including the use of automated collection techniques or other forms of information technology.

Rolf R. Schmitt,
Associate Director.

[FR Doc. 00-1469 Filed 1-20-00; 8:45 am]

BILLING CODE 4910-FE-P